DEPARTMENT OF HEALTH AND HUMAN SERVICES

National Institutes of Health

National Heart, Lung, And Blood Institute Amended Notice of Meeting

Notice is hereby given of a change in the meeting of the National Heart, Lung, and Blood Institute Special Emphasis Panel, March 27, 2020, 08:30 a.m. to March 27, 2020, 05:00 p.m., Hyatt Regency, Bethesda, Bethesda, MD 20814 which was published in the Federal Register on January 29, 2020, 85 FR 5221.

The NHLBI Special Emphasis Panel meeting is being amended due to a change in the meeting format. This one-day meeting to be held on March 27, 2020 will be a teleconference meeting. The meeting is closed to the public.

Dated: March 11, 2020.
Ronald J. Livingston, Jr.,
Program Analyst, Office of Federal Advisory Committee Policy.

[FR Doc. 2020-05435 Filed 3-16-20; 8:45 am]

BILLING CODE 4140-01-P